FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201062-004.

Agreement Name: Lease and Operating Agreement Between Philadelphia Regional Port Authority and Penn City Investments, Inc.

Parties: Philadelphia Regional Port Authority and Penn City Investments, Inc.

Filing Party: Michael Deutsch; Thompson Coburn LLP.

Synopsis: The enclosed Amendment No. 4 amends the lease to document that Penn City Investments, at the direction of the Port, has vacated and ceased operations at Piers 38-40, Pier 80 Annex, and Pier 78. As noted in Amendment No. 4, Penn City Investments continues to operate Pier 80, Pier 74 Annex, and Pier 78 Annex (collectively, the “Retained Premises”). Amendment No. 4 also contains provisions regarding rent at the Retained Premises and other miscellaneous changes.

Proposed Effective Date: 6/15/2020.

Location: https://www2.fmc.gov/FMC.Agreements.Web/Public/AgreementHistory/21357.

Agreement No.: 012206-004.

Agreement Name: Grimaldi/”K” Line Space Charter Agreement.

Parties: Grimaldi Deep Sea S.P.A.; Grimaldi Euromed S.P.A.; and Kawasaki Kisen Kaisha, Ltd.

Filing Party: Wayne Rohde; Cozen O'Connor.

Synopsis: The amendment adds Mexico to the geographic scope of the Agreement.

Proposed Effective Date: 6/16/2020.

Location: https://www2.fmc.gov/FMC.Agreements.Web/Public/AgreementHistory/253.

Dated: June 29, 2020.
Rachel Dickon,
Secretary.

[FR Doc. 2020-14305 Filed 7-2-20; 8:45 am]

BILLING CODE 6730-02-P